DEPARTMENT OF DEFENSE

Office of the Secretary

[Docket ID DOD-2009-OS-0024]

Privacy Act of 1974; Systems of Records

AGENCY: Defense Finance and Accounting Service, DoD.

ACTION: Notice to Amend a System of Records.

SUMMARY: The Defense Finance and Accounting Service (DFAS) is proposing to amend a system of records notice in its inventory of record systems subject to the Privacy Act of 1974, (5 U.S.C. 552a), as amended.

DATES: This proposed action will be effective without further notice on March 25, 2009 unless comments are received which would result in a contrary determination.

ADDRESSES: Send comments to the Defense Finance and Accounting Service, FOIA/PA Program Manager, Corporate Communications and Legislative Liaison, 8899 E. 56th Street, Indianapolis, IN 46249-0150.

FOR FURTHER INFORMATION CONTACT: Ms. Linda Krabbenhoft at (303) 589-3510.

SUPPLEMENTARY INFORMATION: The Defense Finance and Accounting Service systems of notices subject to the Privacy Act of 1974 (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: February 17, 2009.
Patricia L. Toppings,
OSD Federal Register Liaison Officer, Department of Defense.

T5500a

SYSTEM NAME:

Congressional Inquiry File System (September 16, 1998, 63 FR 49554).

CHANGES:

* * * * *

SYSTEM LOCATION:

Delete entry and replace with “Primary location: Defense Finance and Accounting Service Headquarters, 1851 S. Bell Street, Arlington, VA 22202-4511.

SECONDARY LOCATIONS:

Defense Finance and Accounting—Cleveland, 1240 East Ninth Street, Cleveland, OH 44199-2055.

Defense Finance and Accounting Service—Columbus, 4280 East Fifth Avenue, Columbus, OH 43219-1879.”

* * * * *

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act, these records or information contained therein may specifically be disclosed outside the DoD as a routine use pursuant to 5 U.S.C. 552a(b)(3) as follows:

The ‘DoD Blanket Routine Uses’ published at the beginning of the DFAS compilation of systems of records notices apply to this system.”

* * * * *

STORAGE:

Delete entry and replace with “Paper records in file folders and electronic storage media.”

* * * * *

SAFEGUARDS:

Delete entry and replace with “Records are maintained in a controlled facility. Physical entry is restricted by the use of locks, guards, and is accessible only to authorized personnel. Access to records is limited to person(s) responsible for servicing the record in performance of their official duties and who are properly screened and cleared for need-to-know. Access to computerized data is restricted by passwords, which are changed periodically.”

RETENTION AND DISPOSAL:

Delete entry and replace with “Temporary records are cut off at the end of the calendar year and retained from 180 days to 2 years after cutoff. Permanent records are cut off at the end of the calendar year and retained on site for 5 years and then retired to the appropriate Federal Records Center. Records are destroyed by degaussing, shredding, tearing, or pulping.”

SYSTEMS MANAGER(S) AND ADDRESS:

Delete entry and replace with “Defense Finance and Accounting Service, Operations Directorate, 8899 East 56th Street, Indianapolis, IN 46249-0001.”

NOTIFICATION PROCEDURES:

Delete entry and replace with “Individuals seeking to determine whether information about themselves is contained in this system of records should address written inquiries to the Defense Finance and Accounting Service, Corporate Communications and Legislative Liaison, Freedom of Information Act/Privacy Act Program Manager, 8899 E. 56th Street, Indianapolis, IN 46249-0150.

Individual should furnish full name, Social Security Number, current address, telephone number and/or other identifying information verifiable from the records.”

RECORDS ACCESS PROCEDURES:

Delete entry and replace with “Individuals seeking access to information about themselves contained in this system of records should address written inquiries to the Defense Finance and Accounting Service, Corporate Communications and Legislative Liaison, Freedom of Information Act/Privacy Act Program Manager, 8899 E. 56th Street, Indianapolis, IN 46249-0150.

Individual should furnish full name, Social Security Number, current address, telephone number and/or other identifying information verifiable from the records.”

CONTESTING RECORDS PROCEDURES:

Delete entry and replace with “The DFAS rules for accessing records, for contesting contents and appealing initial agency determinations are published in DFAS Regulation; DoD 5400.11-R; 32 CFR part 324; or may be obtained from the Freedom of Information/Privacy Act Program Manager, Defense Finance and Accounting Service, Corporate Communications and Legislative Liaison, Freedom of Information Act/Privacy Act Program Manager, 8899 E. 56th Street, Indianapolis, IN 46249-0150.”

RECORD SOURCE CATEGORIES:

Delete entry and replace with “Information is obtained from the individual requester and the Congressman, Senator or their staff.”

* * * * *

T5500a

SYSTEM NAME:

Congressional Inquiry File.

SYSTEM LOCATION:

Primary location: Defense Finance and Accounting Service Headquarters, 1851 S. Bell Street, Arlington, VA 22202-4511.

Secondary locations: Defense Finance and Accounting—Cleveland, 1240 East Ninth Street, Cleveland, OH 44199-2055.

Defense Finance and Accounting Service—Columbus, 4280 East Fifth Avenue, Columbus, OH 43219-1879.

CATEGORIES OF INDIVIDUALS COVERED BY THE SYSTEM:

Any individual who contacts a Member of Congress requesting that the Member solicit information from the Defense Finance and Accounting Service (DFAS) on their behalf.

CATEGORIES OF RECORDS IN THE SYSTEM:

Full name, Social Security Number, current address, telephone number and/or other identifying information verifiable from the records. Correspondence and related records from and to Members of Congress pertaining to requests for Congressional assistance in resolving problems.

AUTHORITY FOR MAINTENANCE OF THE SYSTEM:

5 U.S.C. 301, Departmental Regulations; DoD Directive 5400.4, Provisions of Information to Congress; and DFAS Regulation 003 and E.O. 9397 (SSN).

PURPOSE(S):

To maintain a record of Congressional inquiries and the DFAS response.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The ‘DoD Blanket Routine Uses’ published at the beginning of the DFAS compilation of systems of records notices apply to this system.

POLICIES AND PRACTICES FOR STORING, RETRIEVING, ACCESSING, RETAINING, AND DISPOSING OF RECORDS IN THE SYSTEM:

STORAGE:

Paper records in file folders and electronic media.

RETRIEVABILITY:

Retrieved by constituent's name and Social Security Number, and Congressman's name.

SAFEGUARDS:

Records are maintained in a controlled facility. Physical entry is restricted by the use of locks, guards, and is accessible only to authorized personnel. Access to records is limited to person(s) responsible for servicing the record in performance of their official duties and who are properly screened and cleared for need-to-know. Access to computerized data is restricted by passwords, which are changed periodically.

RETENTION AND DISPOSAL:

Temporary records are cut off at the end of the calendar year and retained from 180 days to 2 years after cut off. Permanent records are cut off at the end of the calendar year and retained on site for 5 years and then retired to the appropriate Federal Records Center. Records are destroyed by degaussing, shredding, tearing, or pulping.

SYSTEM MANAGER(S) AND ADDRESS:

Defense Finance and Accounting Service, Operations Directorate, 8899 East 56th Street, Indianapolis, IN 46249-0001.

NOTIFICATION PROCEDURE:

Individuals seeking to determine whether information about themselves is contained in this system of records should address written inquiries to the Defense Finance and Accounting Service, Corporate Communications and Legislative Liaison, Freedom of Information Act/Privacy Act Program Manager, 8899 E. 56th Street, Indianapolis, IN 46249-0150.

Individual should furnish full name, Social Security Number, current address, telephone number and/or other identifying information verifiable from the records.

RECORD ACCESS PROCEDURES:

Individuals seeking access to information about themselves contained in this system of records should address written inquiries to the Defense Finance and Accounting Service, Corporate Communications and Legislative Liaison, Freedom of Information Act/Privacy Act Program Manager, 8899 E. 56th Street, Indianapolis, IN 46249-0150.

Individual should furnish full name, Social Security Number, current address, telephone number and/or other identifying information verifiable from the records.

CONTESTING RECORD PROCEDURES:

The DFAS rules for accessing records, for contesting contents and appealing initial agency determinations are published in DFAS Regulation; DoD 5400.11-R; 32 CFR part 324; or may be obtained from the Freedom of Information/Privacy Act Program Manager, at Defense Finance and Accounting Service, Corporate Communications and Legislative Liaison, Freedom of Information Act/Privacy Act Program Manager, 8899 E. 56th Street, Indianapolis, IN 46249-0150.

RECORD SOURCE CATEGORIES:

Information is obtained from the individual requester and the Congressman, Senator or their staff.

EXEMPTIONS CLAIMED FOR THE SYSTEM:

None.

[FR Doc. E9-3700 Filed 2-20-09; 8:45 am]

BILLING CODE 5001-06-P